DEPARTMENT OF COMMERCE

National Oceanic and Atmospheric Administration

RIN 0648-XE112

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a two-day meeting of its Standing and Special Reef Fish Scientific and Statistical Committee (SSC).

DATES: The meeting will be held on Tuesday and Wednesday, September 1-2, 2015, starting at 1 p.m. on Tuesday and at 8:30 a.m. on Wednesday, and will end at approximately 3 p.m. on Wednesday.

ADDRESSES: The meeting will be held at the Hilton Westshore Tampa Airport Hotel, 2225 N. Lois Avenue, Tampa, FL 33607; telephone: (813) 877-6688.

Council address: Gulf of Mexico Fishery Management Council, 2203 N. Lois Avenue, Suite 1100, Tampa, FL 33607; telephone: (813) 348-1630.

FOR FURTHER INFORMATION CONTACT: Steven Atran, Senior Fishery Biologist, Gulf of Mexico Fishery Management Council; steven.atran@gulfcouncil.org, telephone: (813) 348-1630.

SUPPLEMENTARY INFORMATION:

Agenda

The Chairman will start the meeting with introductions and adoption of the agenda, and will hold elections for a new chair and vice-chair. The Committee will then review and approve the minutes from the May 20, 2015 Standing and Special Reef Fish SSC meeting. The Committee will receive a report from the Southeast Fisheries Science Center (SEFSC) on the SEDAR 42 Red Grouper Benchmark Assessment. If the Committee accepts the assessment and sufficient information is available, the Committee will recommend overfishing limits (OFL) and acceptable biological catch (ABC) levels for red grouper. The Committee will discuss best practices for constant catch Acceptable Biological Catch (ABC) projections, and will recommend a constant catch ABC for the west Florida shelf stock of hogfish based on analysis provided by the Florida Fish and Wildlife Research Institute. The Committee will also receive a report from the SEFSC on the SEDAR 43 Gray Triggerfish Standard Assessment. If the Committee accepts the assessment and sufficient information is available, the Committee will recommend overfishing limits (OFL) and acceptable biological catch (ABC) levels for gray triggerfish. The Committee will review and discuss best practices for determining the number of years to provide Overfishing Limits (OFL) and ABC projections. They will review and approve the terms of reference for a review of an upcoming SEDAR 47 Goliath Grouper Standard Assessment, and will select two SSC members to participate as the Chair and Reviewer at the Review Workshop. The Committee will receive a report on Integrated Ecosystem Assessment and Management Strategy Evaluation as it pertains to single-species assessments. Finally, the Committee will review the SEDAR Assessment Schedule and tentative meeting dates for 2016 SSC meetings; and will discuss of Other Business, if any.

Meeting Adjourns

The Agenda is subject to change, and the latest version along with other meeting materials will be posted on the Council's file server. To access the file server, the URL is https://public.gulfcouncil.org:5001/webman/index.cgi, or go to the Council's Web site and click on the FTP link in the lower left of the Council Web site (http://www.gulfcouncil.org). The username and password are both “gulfguest”. Click on the “Library Folder”, then scroll down to “SSC meeting-2015-09”.

The meeting will be webcast over the internet. A link to the webcast will be available on the Council's Web site, http://www.gulfcouncil.org.

Although other non-emergency issues not on the agenda may come before the Scientific and Statistical Committee for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: August 13, 2015.
Tracey L. Thompson,
Acting Deputy Director, Office of Sustainable Fisheries, National Marine Fisheries Service.

[FR Doc. 2015-20311 Filed 8-17-15; 8:45 am]

BILLING CODE 3510-22-P